DEPARTMENT OF THE INTERIOR

National Park Service

[NPS-WASO-NAGPRA-NPS0034191; PPWOCRADN0-PCU00RP14.R50000]

Notice of Inventory Completion: Peabody Museum of Archaeology and Ethnology, Harvard University, Cambridge, MA

AGENCY: National Park Service, Interior.

ACTION: Notice.

SUMMARY: The Peabody Museum of Archaeology and Ethnology, Harvard University has completed an inventory of associated funerary objects, in consultation with the appropriate Indian Tribes or Native Hawaiian organizations, and has determined that there is a cultural affiliation between the associated funerary objects and present-day Indian Tribes or Native Hawaiian organizations. Lineal descendants or representatives of any Indian Tribe or Native Hawaiian organization not identified in this notice that wish to request transfer of control of these associated funerary objects should submit a written request to the Peabody Museum of Archaeology and Ethnology. If no additional requestors come forward, transfer of control of the associated funerary objects to the lineal descendants, Indian Tribes, or Native Hawaiian organizations stated in this notice may proceed.

DATES: Lineal descendants or representatives of any Indian Tribe or Native Hawaiian organization not identified in this notice that wish to request transfer of control of these associated funerary objects should submit a written request with information in support of the request to the Peabody Museum of Archaeology and Ethnology at the address in this notice by August 15, 2022.

ADDRESSES: Patricia Capone, Curator and NAGPRA Director, Peabody Museum of Archaeology and Ethnology, 11 Divinity Avenue, Cambridge, MA 02138, telephone (617) 496-3702, email pcapone@fas.harvard.edu.

SUPPLEMENTARY INFORMATION: Notice is here given in accordance with the Native American Graves Protection and Repatriation Act (NAGPRA), 25 U.S.C. 3003, of the completion of an inventory of associated funerary objects under the control of the Peabody Museum of Archaeology and Ethnology, Harvard University, Cambridge, MA. The associated funerary objects and the human remains with which they are associated were removed from Erie County, NY.

This notice is published as part of the National Park Service's administrative responsibilities under NAGPRA, 25 U.S.C. 3003(d)(3). The determinations in this notice are the sole responsibility of the museum, institution, or Federal agency that has control of the Native American associated funerary objects. The National Park Service is not responsible for the determinations in this notice.

Consultation

A detailed assessment of the associated funerary objects was made by the Peabody Museum of Archaeology and Ethnology professional staff in consultation with representatives of the Cayuga Nation; Oneida Indian Nation (previously listed as Oneida Nation of New York); Oneida Nation (previously listed as Oneida Tribe of Indians of Wisconsin); Onondaga Nation; Saint Regis Mohawk Tribe (previously listed as St. Regis Band of Mohawk Indians of New York); Seneca Nation of Indians (previously listed as Seneca Nation of New York); Seneca-Cayuga Nation (previously listed as Seneca-Cayuga Tribe of Oklahoma); Tonawanda Band of Seneca (previously listed as Tonawanda Band of Seneca Indians of New York); and the Tuscarora Nation (hereafter referred to as “The Tribes”).

History and Description of the Associated Funerary Objects

In 1903, 28 associated funerary objects were removed from Erie County, NY, during a Peabody Museum expedition led by M.R. Harrington and A.C. Parker. Museum records indicate that these associated funerary objects were recovered from the Silverheels site. This site is located within the town of Brant, 1.5 miles east of the village of Irving, on the Cattaraugus Indian Reservation, approximately 2.5 miles upstream of Lake Erie on Cattaraugus Creek. These interments most likely date to the early Contact period (A.D. 1500-1700). Museum documentation and consultation information indicate that the associated funerary objects were removed from specific burials of Native American individuals. The 28 associated funerary objects are: five sherds, one stone, one faunal remain, one lot of faunal remains, one nut, one animal tooth, two lots of sherds, five bones, one point, two iron knife fragments, one fragment of scissors, one metal sheet fragment, three iron knives, and three lithics.

The associated human remains together with other associated funerary objects from the site were reported in a Notice of Inventory Completion published in the Federal Register on October 5, 2001, and have subsequently been transferred to the culturally affiliated Indian Tribes.

Historical and geographical information indicate that these cultural items are from areas considered to be aboriginal homelands and traditional burial grounds of the Haudenosaunee. The present-day Indian Tribes who represent the Haudenosaunee are The Tribes.

Determinations Made by the Peabody Museum of Archaeology and Ethnology, Harvard University

Officials of Peabody Museum of Archaeology and Ethnology, Harvard University have determined that:

• Pursuant to 25 U.S.C. 3001(3)(A), the 28 objects described in this notice are reasonably believed to have been placed with or near individual human remains at the time of death or later as part of the death rite or ceremony.

• Pursuant to 25 U.S.C. 3001(2), there is a relationship of shared group identity that can be reasonably traced between the associated funerary objects and The Tribes.

Additional Requestors and Disposition

Lineal descendants or representatives of any Indian Tribe or Native Hawaiian organization not identified in this notice that wish to request transfer of control of these associated funerary objects should submit a written request with information in support of the request to Patricia Capone, Curator and NAGPRA Director, Peabody Museum of Archaeology and Ethnology, 11 Divinity Avenue, Cambridge, MA 02138, telephone (617) 496-3702, email pcapone@fas.harvard.edu, by August 15, 2022. After that date, if no additional requestors have come forward, transfer of control of the associated funerary objects to The Tribes may proceed.

The Peabody Museum of Archaeology and Ethnology, Harvard University is responsible for notifying The Tribes that this notice has been published.

Dated: July 6, 2022.
Melanie O'Brien,
Manager, National NAGPRA Program.

[FR Doc. 2022-15038 Filed 7-13-22; 8:45 am]

BILLING CODE 4312-52-P